DEPARTMENT OF THE TREASURY

United States Mint

Pricing for the 2014 Coin and Chronicles Set—Franklin D. Roosevelt

AGENCY: United States Mint, Department of the Treasury.

ACTION: Notice.

SUMMARY: The United States Mint is announcing a price of $57.95 for the 2014 Coin and Chronicles Set—Franklin D. Roosevelt.

FOR FURTHER INFORMATION CONTACT: Marc Landry, Acting Associate Director for Sales and Marketing; United States Mint; 801 Ninth Street NW., Washington, DC 20220; or call 202-354-7500.

Authority: 31 U.S.C. 5112.

Dated: November 14, 2014.
Richard A. Peterson,
Deputy Director, United States Mint.

[FR Doc. 2014-27650 Filed 11-20-14; 8:45 am]

BILLING CODE P